DEPARTMENT OF HOUSING AND URBAN DEVELOPMENT

[Docket No. FR-4491-N-05]

Notice of Draft Environmental Impact Statement: City of Hartford, CT; Section 108 Loan Guarantee/BEDI Grant

AGENCY: Office of the Assistant Secretary for Community Planning and Development, HUD.

ACTION: Notice.

SUMMARY: The Department of Housing and Urban Development gives this notice to the public that the City of Hartford, Connecticut intends to prepare an Environmental Impact Statement (EIS) for the Adriaen's Landing Project. This Notice is in accordance with regulations of the Council on Environmental Quality as described in 40 CFR parts 1500-1508. Federal agencies having jurisdiction by law, special expertise, or other special interest should report their interests and indicate their readiness to aid in the EIS effort as a “Cooperating Agency.”

A Draft EIS will be completed for the proposed action described herein. Comments relating to the Draft EIS are requested and will be accepted by the contact person listed below. When the Draft EIS is completed, a notice will be sent to individuals and groups known to have an interest in the Draft EIS and particularly in the environmental impact issues identified therein. Any person or agency interested in receiving a notice and making comment on the Draft EIS should contact the person listed below within 45 days after the publication of this Notice.

ADDRESSES: All interested agencies, groups and persons are invited to submit written comments on the within-named project and the Draft EIS to the following contact person. Such comments should be received by the office of the contact person and all comments so received will be considered prior to the preparation and distribution of the Draft EIS.

Particularly solicited is information on reports or other environmental studies planned or completed in the project area, major issues and dates which the EIS should consider and recommended mitigating measures and alternatives associated with the proposed project. Federal agencies having jurisdiction by law, special expertise or other special interest should report their interests and indicate their readiness to aid the EIS effort as a “cooperating agency.”

FOR FURTHER INFORMATION CONTACT: Dennis J. Johnson, Contract Manager, City of Hartford, Division of Management & Budget, Office of Grants Management, Room 108, 550 Main Street, Hartford, CT, 06103. Telephone: (860) 543-8650.

SUPPLEMENTARY INFORMATION:

A: Background

The City of Hartford, acting under authority of section 104(g) of the Housing and Community Development Act of 1974 (42 U.S.C. 5304(g)) and HUD's regulations at 24 CFR part 58, in cooperation with the Capital City Economic Development Authority, the Federal Highway Administration, and other interested agencies, will prepare an Environmental Impact Statement (EIS) to analyze potential impacts of constructing a 33-acre mixed use development complex including: (1) A retail/entertainment venue of a maximum of approximately 265,000 square feet, (2) an approximately 500,000 square feet convention center, (3) an approximately 700-room convention center hotel, (4) approximately 200 to 400 residential apartments, (5) an approximately 200,000 square feet future attraction (public interactive-entertainment and education venue), (6) parking facilities representing approximately 6,000 spaces, and (7) relocation and modification of sewer, water, and other utility infrastructure and vehicular and pedestrian traffic access modifications. Adriaen's Landing will be located in downtown Hartford along the Connecticut River. The estimated cost for this project is 650 million dollars.

In 1998, the City of Hartford applied for a competitive grant allocation from DHUD for $2 million in Brownfield Economic Development Initiative (BEDI) funds for the retail/entertainment component of the Adriaen's Landing project. The application was funded and will be coupled with up to $13 million in Section 108 loan authority, $5 million of which will be specifically used in conjunction with the BEDI funds on the retail/entertainment component of the project. The remaining $8 million in Section 108 loan authority will be used for eligible activities associated with the project.

B. Need for the EIS

The project may constitute an action significantly effecting the quality of the human environment, and an Environmental Impact Statement will be prepared by the City of Hartford in cooperation with the Capital City Economic Development Authority in accordance with the National Environmental Policy Act of 1969 (42 U.S.C. 4321 et seq.) on such project. Responses to this notice will be used to: (1) Determine significant environmental issues; (2) identify data which the EIS should address; and (3)identify agencies and other parties which will participate in the EIS process and the basis for their involvement.

This notice is in accordance with the regulations of the Council on Environmental Quality under its rule at 40 CFR part 1500. The Draft EIS will be published and distributed on or about 15 days after the date of this publication and a copy will be on file at the City of Hartford, Division of Management and Budget, Room 108, 550 Main Street, Hartford, CT 06103 and available for public inspection, or copies may be obtained at the same address, upon request.

C. Scoping

Scoping meetings were held on April 15, 1999 and November 16, 1999 at the Betances School in Hartford. The scope of issues to be addressed in the EIS was discussed, as well as an identification of the significant issues related to the proposed Adriaen's Landing project.

This Notice shall be in effect for one year. If one year after the publication of the Notice in the Federal Register a draft EIS has not been filed on the project, then the Notice for that project shall be canceled. If a draft EIS is expected more than one year after the publication of this Notice, a new and updated Notice must be published.

Dated: January 31, 2001.
Richard H. Broun,
Director, Office of Community Viability.

[FR Doc. 01-3554 Filed 2-12-01; 8:45 am]

BILLING CODE 4210-29-P